FEDERAL COMMUNICATIONS COMMISSION

Notice of Public Information Collection(s) Being Submitted to OMB for Review and Approval.

February 23, 2004.

SUMMARY: The Federal Communications Commissions, as part of its continuing effort to reduce paperwork burden, invites the general public and other Federal agencies to take this opportunity to comment on the following information collection, as required by the Paperwork Reduction Act of 1995, Pub. L. 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before April 8, 2004. If you anticipate that you will be submitting comments, but find it difficult to do so within the period of time allowed by this notice, you should advise the contact listed below as soon as possible.

ADDRESSES: Direct all comments to Les Smith, Federal Communications Commission, Room 1-A804, 445 12th Street, SW., Washington, DC 20554 or via the Internet to Leslie.Smith@fcc.gov or Kristy L. LaLonde, Office of Management and Budget (OMB), Room 10236 NEOB, Washington, DC 20503, (202) 395-3562 or via Internet at Kristy_L._LaLonde@omb.eop.gov.

FOR FURTHER INFORMATION CONTACT: For additional information or copies of the information collections contact Les Smith at (202) 418-0217 or via the Internet at Leslie.Smith@fcc.gov.

SUPPLEMENTARY INFORMATION: OMB Control Number: 3060-1040.

Title: Broadcast Ownership Rules, MB Docket No. 02-277 and MM Docket Nos. 02-235, 02-327, and 00-244.

Form Number: N/A.

Type of Review: Extension of a currently approved collection.

Respondents: Business or other for-profit entities.

Number of Respondents: 12.

Estimated Time per Response: 2-10 hours.

Frequency of Response: One-time reporting requirement.

Total Annual Burden: 12 hours.

Total Annual Cost: None.

Needs and Uses: On June 2, 2003, the Commission adopted a Report and Order and Notice of Proposed Rulemaking (R&O), In the Matter of 2002 Biennial Regulatory Review—Review of the Commission's Broadcast Ownership Rules and Other Rules Adopted Pursuant to Section 202 of the Telecommunications Act of 1996, MM Docket No. 02-277, Cross Ownership of Broadcast Stations and Newspapers, MM Docket No. 01-235, Rules and Policies Concerning Multiple Ownership of Radio Broadcast Stations in Local Markets, MM Docket No. 01-317, Definition of Radio Markets, MM Docket No. 00-244, and Definition of Radio Markets for Areas Not Located in an Arbitron Survey Areas Not Located in an Arbitron Survey Area, MB Docket No. 03-130, FCC 03-127. That R&O contained several one-time reporting requirements which were outside of form collections, affecting licensees with: temporary waivers, conditional waivers, pending waiver requests, extensions of waiver, or requests for permanent waivers of the broadcast ownership rules. These reporting requirements were adopted to ensure compliance with the new broadcast ownership rules and to ensure the rules' effectiveness.

OMB Control Number: 3060-1032.

Title: Commercial Availability of Navigation Devices and Compatibility Between Cable Systems and Consumer Electronics Equipment, CS Docket No. 97-80 and PP Docket No. 00-67.

Form Number: N/A.

Type of Review: Revision of a currently approved collection.

Respondents: Business or other for-profit entities.

Number of Respondents: 587.

Estimated Time per Response: 30 seconds to 40 hours.

Frequency of Response: Recordkeeping; On occasion reporting requirements; Third party disclosure.

Total Annual Burden: 72,402 hours.

Total Annual Costs: None.

Needs and Uses: On October 9, 2003, the FCC released the Second Report and Order and Second Further Notice of Proposed Rulemaking (2nd R&O), In the Matter of Implementation of Section 304 of the Telecommunications Act of 1996, Commercial Availability of Navigation Devices, Compatibility Between Cable Systems and Consumer Electronics Equipment, CS Docket No. 97-80, PP Docket No. 00-67, FCC 03-225, the Commission adopted final rules that set technical and other criteria that manufacturers would have to meet in order to label or market unidirectional digital cable televisions and other unidirectional digital cable products as “digital cable ready.” This regime includes testing and self-certification standards, certification recordkeeping requirements, and consumer information disclosures in appropriate post-sale materials that describe the functionality of these devices and the need to obtain a security module from their cable operator. To the extent manufacturers have complaints regarding the certification process, they may file formal complaints with the Commission. In addition, should manufacturers have complaints regarding administration of the Dynamic Feedback Arrangement Scrambling Technique or DFAST license which governs the scrambling technology needed to build unidirectional digital cable products, they may also file complaints with the FCC. The 2nd R&O also prohibits MVPDs from encoding content to activate selectable output controls on unidirectional digital cable products, or the down-resolution of unencrypted broadcast television programming. MVPDs are also limited in the levels of copy protection that could be applied to various categories of programming. As a part of these encoding rules is a petition process for new services within existing business models, a PR Newswire Notice relating to initial classification of new business models, and a complaints process for disputes regarding new business models.

Federal Communications Commission.
Marlene H. Dortch,
Secretary.

[FR Doc. 04-5270 Filed 3-8-04; 8:45 am]

BILLING CODE 6712-01-P